NATIONAL SCIENCE FOUNDATION

Request for Information on Federal Video and Image Analytics Research and Development Action Plan

AGENCY: The Networking and Information Technology Research and Development (NITRD) National Coordination Office (NCO), National Science Foundation (NSF).

ACTION: Request for Information (RFI); extension of comment period.

SUMMARY: On July 14, 2022, the NITRD NCO and NSF, as part of the NITRD Video and Image Analytics Team, published in the Federal Register a document entitled “Request for Information on Federal Video and Image Analytics Research and Development Action Plan”. Through this RFI, the NITRD NCO seeks input from all interested parties on updating the 2020 Federal Video and Image Analytics (VIA) Research and Development (R&D) Action Plan (VIA R&D Action Plan), Research and Development Opportunities in Video and Image Analytics. The public input provided in response to this RFI will assist the NITRD VIA Team in updating the VIA R&D Action Plan. To allow prospective commenters additional time to adequately consider and respond to the RFI, the NITRD NCO and NSF have determined that an extension of the comment period until September 16, 2022, is appropriate.

DATES: The end of the comment period for the document entitled “Request for Information on Federal Video and Image Analytics Research and Development Action Plan”, published on July 14, 2022 (87 FR 42212), is extended from September 5, 2022, until on or before 11:59 p.m. (ET) September 16, 2022.

ADDRESSES: Comments submitted in response to 87 FR 42212 may be sent by any of the following methods:

• Email: VIA-RFI@nitrd.gov. Email submissions should be machine-readable and not be copy-protected; submissions should include “RFI Response: Federal Video and Image Analytics Research and Development Action Plan” in the subject line of the message

• Mail: Attn: Jacqueline Altamirano, NCO, 2415 Eisenhower Avenue, Alexandria, VA 22314, USA.

Instructions: Response to this RFI (87 FR 42212) is voluntary. Each individual or institution is requested to submit only one response. Submissions must not exceed 10 pages in 12-point or larger font, with a page number provided on each page. Include the name of the person(s) or organization(s) filing the comment in your response. Responses to this RFI (87 FR 42212) may be posted for public access online at https://www.nitrd.gov. Therefore, we request that no business proprietary information, copyrighted information, sensitive personally identifiable information, or personal signatures be submitted as part of your response.

In accordance with FAR 15.202(3), responses to this notice are not offers and cannot be accepted by the Government to form a binding contract. Responders are solely responsible for all expenses associated with responding to this RFI (87 FR 42212).

FOR FURTHER INFORMATION CONTACT: Jacqueline Altamirano at (202) 459-9677 or VIA-RFI@nitrd.gov. Individuals who use a telecommunications device for the deaf (TDD) may call the Federal Information Relay Service (FIRS) at 1-800-877-8339 between 8 a.m. and 8 p.m. (ET), Monday through Friday.

SUPPLEMENTARY INFORMATION: Background: On July 14, 2022, the NITRD NCO and NSF, as part of the NITRD Video and Image Analytics Team, published in the Federal Register a document requesting input to the work of the VIA Team to prepare updates to the 2020 Federal Video and Image Analytics (VIA) Research and Development (R&D) Action Plan (VIA R&D Action Plan), Research and Development Opportunities in Video and Image Analytics. The VIA Team was formed to coordinate Federal VIA R&D across thirty Federal organizations and to foster a robust multisector ecosystem to support this rapidly developing research area. The RFI (87 FR 42212) was issued to seek public input on suggestions of revisions or improvements for the VIA R&D Action Plan, including comments on the six strategic goals and objectives regarding additions, removals, or modifications, as well as suggestions on implementation of strategic goals and objectives. The public input in response to this RFI (87 FR 42212) will assist the VIA Team in updating the VIA R&D Action Plan. The document stated that the comment period would close on September 5, 2022. An extension of the comment period will provide additional opportunity for the public to consider the RFI (87 FR 42212) and prepare comments to address the questions posed therein. Therefore, NITRD NCO and NSF are extending the end of the comment period for the RFI (87 FR 42212) from September 5, 2022, until September 16, 2022.

Submitted by the National Science Foundation in support of the NITRD NCO on September 2, 2022.
Suzanne H. Plimpton,
Reports Clearance Officer, National Science Foundation.

[FR Doc. 2022-19463 Filed 9-8-22; 8:45 am]

BILLING CODE 7555-01-P